NATIONAL COUNCIL ON DISABILITY

Sunshine Act Meeting

TIME AND DATES: The Members of the National Council on Disability (NCD) will meet in closed executive session by phone on Friday, November 1, from 1:00 p.m.-2:00 p.m., Eastern.

PLACE: The meeting will occur by phone. The meeting will be open only to the NCD Council Members.

STATUS: The meeting on Friday, November 1, from 1:00 p.m. till 2:00 p.m., Eastern will be closed to the public.

MATTERS TO BE CONSIDERED: The Council will meet by phone to discuss matters related solely to internal personnel rules and practices of exigent import, pursuant to paragraph (c)(2) of the Sunshine Act, and in accordance with a determination made by the NCD Chairperson.

CONTACT PERSON FOR MORE INFORMATION: Rebecca Cokley, NCD Executive Director, 1331 F Street NW., Suite 850, Washington, DC 20004; 202-272-2004 (V), 202-272-2074 (TTY).

Dated: October 28, 2013.
Rebecca Cokley,
Executive Director.

[FR Doc. 2013-25871 Filed 10-28-13; 11:15 am]

BILLING CODE 6820-MA-P